DEPARTMENT OF AGRICULTURE

Commodity Credit Corporation

Notice of Funds Availability; Inviting Applications for the Technical Assistance for Specialty Crops Program; Correction

AGENCY: Foreign Agricultural Service, U.S. Department of Agriculture.

ACTION: Notice; correction.

SUMMARY: The Foreign Agricultural Service published a document in the Federal Register of April 23, 2012, concerning funds availability and inviting applications for the Technical Assistance for Specialty Crops (TASC) program. The document contained incorrect dates.

FOR FURTHER INFORMATION CONTACT: Mark Slupek, 202-720-4327.

Correction

In the Federal Register of April 23, 2012, in FR Doc. 2012-9633, on page 24164, in the third column, correct the DATES caption to read:

DATES: To be considered for funding, applications must be received by 5 p.m. Eastern Daylight Time, May 23, 2012. Any applications received after this time will be considered only if funds are still available.

IV. Application and Submission Information

In the Federal Register of April 23, 2012, in FR Doc. 2012-9633, on page 24165—24166, in the third column, correct the “3. Submission Dates and Times” caption to read:

3. Submission Dates and Times. TASC funding is reviewed on a rolling basis during the fiscal year as long as TASC funding is available as set forth below:

• Proposals received by, but not later than, 5 p.m. Eastern Daylight Time, May 23, 2012, will be considered for funding with other proposals received by that date;

• Proposals not approved for funding during the review period will be reconsidered for funding after the review period only if the applicant specifically requests such reconsideration in writing, and only if funding remains available;

• Proposals received after 5 p.m. Eastern Daylight Time, May 23, 2012, will be considered in the order received for funding only if funding remains available.

Notwithstanding the foregoing, a proposal may be submitted for expedited consideration under the TASC Quick Response process if, in addition to meeting all requirements of the TASC program, a proposal clearly identifies a time-sensitive activity. In these cases, a proposal may be submitted at any time for an expedited evaluation. Such a proposal must include a specific request for expedited evaluation.

FAS will track the time and date of receipt of all proposals.

In the Federal Register of April 23, 2012, in FR Doc. 2012-9633, on page 24166, in the first column, correct the “5. Other Submission Requirements” caption to read:

5. Other Submission Requirements: All Internet-based applications must be properly submitted by 5 p.m., Eastern Daylight Time, May 23, 2012, in order to be considered for funding; late submissions received after the deadline will be considered only if funding remains available. All applications submitted by email must be received by 5 p.m. Eastern Daylight Time, May 23, 2012, at podadmin@fas.usda.gov in order to receive the same consideration.

Dated: April 27, 2012.
Suzanne E. Heinen,
Administrator, Foreign Agricultural Service, and Vice President, Commodity Credit Corporation.

[FR Doc. 2012-11122 Filed 5-8-12; 8:45 am]

BILLING CODE 3410-10-P